DEPARTMENT OF THE INTERIOR

Bureau of Land Management

[ID-077-03-1430-ER-D025; IDI-33676]

Notice of Intent To Prepare an Environmental Impact Statement/Land Use Plan Amendment

AGENCY: Burley Field Office, Upper Snake River District, Bureau of Land Management (BLM), Cassia County, Idaho.

ACTION: Notice of Intent to prepare an Environmental Impact Statement (EIS) and to Amend the Cassia Resource Management Plan (RMP).

SUMMARY: Notice is hereby given that the BLM is proposing to prepare a land use plan amendment and environmental impact statement (EIS) to consider the proposed Cotterel Mountain Wind Energy Project (Project), located southeast of the town of Albion in Cassia County, Idaho. Windland, Inc. (Windland) of Boise, Idaho proposes to construct and operate the 200-megawatt (MW) wind-driven power generation facility. The EIS will analyze the potential environmental impacts of the construction and operation of the wind project itself, as well as related transmission facilities and roads. This planning activity would amend the Cassia RMP and deals with the 40,967 acres of public land in the Cotterel Mountain Management Area of the RMP and more specifically with approximately 4,600 acres running north and south along the ridge line of the mountain that would be directly affected by the proposed project. The planning process will comply with the Federal Land Policy and Management Act of 1976 (FLPMA) and the National Environmental Policy Act of 1969 (NEPA). The BLM will work closely with interested parties to identify the management decisions that are best suited to the needs of the public. This collaborative process will take into account local, regional, and national needs and concerns. This notice initiates the public scoping process to identify specific issues and develop planning criteria. The scoping process will include an evaluation of the needs and interests of the public.

DATES: The scoping comment period will commence with the publication of this notice. Formal scoping will end 60 days after publication of this notice. Comments regarding issues and planning criteria should be received on or before the end of the scoping period at the address listed below. Public meetings or open houses will be held. In order to ensure local community participation and input, public meetings will most likely be held in Albion, Burley and Boise, Idaho. Specific dates and locations for public participation will be published in local newspapers and broadcast on local community calendars. Meetings and open houses will provide opportunity for the public to work collaboratively with the BLM to identify issues to be addressed in the planning process.

ADDRESSES: Comments regarding the proposed development of a wind-driven power generation facility should be sent to: Project Manager, Cotterel Mountain Wind Project, Bureau of Land Management, Burley Field Office, 15 East 200 South, Burley, Idaho 83318. Comments, including names and street addresses of respondents, will be available for public review at the above address during regular business hours, 7:45 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

SUPPLEMENTARY INFORMATION: Windland, Inc., a Boise based company, is proposing to install approximately 130 wind turbines, each having a generating capacity between 1.3 and 1.8 megawatts, on a site covering approximately 7 square miles on the Cotterel Mountains southeast of Burley, Idaho. The proposed project area is within the Burley Field Office, Upper Snake River District of the BLM. The 130 turbines situated on towers approximately 250 feet in height would produce a maximum of 200 megawatts of power, enough to provide electricity for 40,000 homes. Power from the project would be collected by an underground cable system and then fed into one of two proposed substations to be located on the project site. The fenced substation sites would occupy approximately two to four acres each. From the substation sites, power from the project would then be transported to one of two existing 138-kilovolt (kV) power transmission lines that are in the vicinity of the proposed project area, via new overhead transmission facilities. Other facilities required as part of the proposed project are small pad mounted transformers located at the base of each wind turbine tower, access roads and one operation and maintenance building. The area permanently occupied by the project after final reclamation of disturbed areas would total approximately 68 acres. The project is scheduled to begin construction as early as June 2004, followed by commercial operation as early as November 2005 and would operate year-round for at least 30 years.

The purpose and need for the proposed project are to (1) provide wind-generated electricity from a site in Idaho to meet existing and future demands for electricity; and (2) to develop energy generation facilities that are consistent with the President's National Energy Policy which encourages the development of renewable energy resources, including wind energy, as part of an overall strategy to develop a diverse portfolio of domestic energy supplies for the nation's future.

Public Participation: Potential issues that have been identified to date include, but are not limited to the following general categories: Wildlife (including birds); vegetation (including weeds and invasive plant species); threatened, endangered and sensitive species; public access; visual concerns; cultural resources; Tribal concerns; rangeland resources; geology and soils; hydrology; recreation resources; hazardous materials; air quality; noise; and socio-economics. The BLM has established a 60-day scoping period during which, affected tribes, landowners, concerned citizens, special interest groups, local governments, and any other interested parties are invited to comment on the scope of the EIS. Scoping will help the BLM identify the full range of issues that should be addressed in the EIS. The Draft EIS/Draft plan amendment, which is scheduled for completion in the fall of 2003, will be circulated for public review and comment. The BLM will consider and respond in the Final EIS/proposed planned amendment to comments received on the draft. The Final EIS and proposed plan amendment are expected to be published early in 2004.

FOR FURTHER INFORMATION CONTACT: Scott Barker, Project Manager, Burley Field Office, 15 East 200 South, Burley, Idaho 83318, telephone (208) 677-6678.

Dated: October 28, 2002.
Theresa Hanley,
Burley Field Office Manager.

[FR Doc. 02-32060 Filed 12-18-02; 8:45 am]

BILLING CODE 4310-GG-P